RAILROAD RETIREMENT BOARD

Sunshine Act Meetings

TIME AND DATE: 10:00 a.m., November 2, 2022.

PLACE: Members of the public wishing to attend the meeting must submit a written request at least 24 hours prior to the meeting to receive dial-in information. All requests must be sent to SecretarytotheBoard@rrb.gov.

STATUS: This meeting will be open to the public.

MATTERS TO BE CONSIDERED:

1. Legislative Update

2. Actuary Update

CONTACT PERSON FOR MORE INFORMATION: Stephanie Hillyard, Secretary to the Board, (312) 751-4920.

Authority: 5 U.S.C. 552b.

Dated: October 20, 2022.
Stephanie Hillyard,
Secretary to the Board.

[FR Doc. 2022-23180 Filed 10-20-22; 11:15 am]

BILLING CODE 7905-01-P